DEPARTMENT OF COMMERCE

International Trade Administration

[A-489-501]

Circular Welded Carbon Steel Standard Pipe and Tube Products From Turkey: Amended Final Results of Antidumping Duty Administrative Review; 2017-2018

AGENCY: Enforcement and Compliance, International Trade Administration, Department of Commerce.

SUMMARY: The Department of Commerce (Commerce) is amending its final results of the administrative review of the antidumping duty order on circular welded carbon steel standard pipe and tube products (pipes and tubes) from Turkey. The period of review (POR) is May 1, 2017 through April 30, 2018. The amended final weighted-average dumping margins are listed below in the section entitled “Amended Final Results.”

DATES: Applicable March 5, 2020.

FOR FURTHER INFORMATION CONTACT: Magd Zalok, AD/CVD Operations, Office IV, Enforcement and Compliance, International Trade Administration, U.S. Department of Commerce, 1401 Constitution Avenue NW, Washington, DC 20230; telephone: (202) 482-4162.

SUPPLEMENTARY INFORMATION:

Background

On January 22, 2020, Commerce published the Final Results of the 2017-2018 administrative review in the Federal Register.¹ Borusan Mannesmann Boru Sanayi ve Ticaret A.S. (Borusan), a mandatory respondent in this administrative review, timely filed a ministerial error allegation concerning the Final Results and requested, pursuant to 19 CFR 351.224, that Commerce correct the alleged ministerial error.² On January 22, 2020, Borusan filed a complaint with the U.S. Court of International Trade (CIT) challenging the Final Results. On February 3, 2020, Commerce sought leave from the CIT to address the ministerial error allegation involving the Final Results. On February 4, 2020, the CIT granted Commerce's request.

¹ See Circular Welded Carbon Steel Standard Pipe and Tube Products from Turkey: Final Results of Antidumping Duty Administrative Review and Final Determination of No Shipments; 2017-2018, 85 FR 3616 (January 22, 2020) (Final Results), and accompanying Issues and Decision Memorandum.

² See Borusan's Letter, “Circular Welded Carbon Steel Pipes and Tubes from Turkey, Case No. A-489-501: Borusan's Ministerial Error Comments,” dated January 21, 2020 (Borusan's Ministerial Error Comments).

Scope of the Order

The products covered by this order are welded carbon steel standard pipe and tube products with an outside diameter of 0.375 inch or more but not over 16 inches of any wall thickness, and are currently classified under the following Harmonized Tariff Schedule of the United States (HTSUS) subheadings: 7306.30.10.00, 7306.30.50.25, 7306.30.50.32, 7306.30.50.40, 7306.30.50.55, 7306.30.50.85, and 7306.30.50.90. Although the HTSUS subheading is provided for convenience and customs purposes, the written description of the merchandise under investigation is dispositive. These products, commonly referred to in the industry as standard pipe or tube, are produced to various ASTM specifications, most notably A-120, A-53 or A-135.

Legal Framework

Section 751(h) of the Tariff Act of 1930, as amended (the Act), defines “ministerial errors” as including “errors in addition, subtraction, or other arithmetic function, clerical errors resulting from inaccurate copying, duplication, or the like, and any other type of unintentional error which the administering authority considers ministerial.” ³ With respect to final results of an administrative review, 19 CFR 351.224(e) provides that Commerce “will analyze any comments received and, if appropriate, correct any ministerial error by amending . . . the final results of review . . . .”

³ See 19 CFR 351.224(f).

Ministerial Error Allegation

In its ministerial error allegation, Borusan argues that Commerce set the incorrect beginning window period for matching home market and U.S. sales in Commerce's margin program.⁴ Accordingly, Borusan argues Commerce should correct the beginning window period date to three months preceding the earliest U.S. date of sale for merchandise entering the United States during the POR, consistent with 19 CFR 351.414(f).⁵

⁴ See Borusan's Ministerial Error Comments.

⁵ Id.

We agree with Borusan that Commerce committed an inadvertent error within the meaning of section 735(e) of the Act and 19 CFR 351.224(f) when setting the beginning window period date for U.S. sales in our margin program. Consistent with 19 CFR 351.414(f), we intended to set the beginning window period date to three months preceding the earliest U.S. date of sale for merchandise entering the United States during the POR.

Amended Final Results

After analyzing Borusan's comments, we have determined, in accordance with section 751(h) of the Act and 19 CFR 351.224(f), that we made a ministerial error in the Final Results with respect to Borusan's margin programming.⁶ For a detailed discussion of this ministerial error, as well as Commerce's analysis of this error, see the Ministerial Error Memorandum.

⁶ See Memorandum, “2017-2018 Administrative Review of the Antidumping Duty Order on Circular Welded Carbon Steel Standard Pipe and Tube Products from Turkey: Allegation of Ministerial Errors in the Final Results,” dated concurrently with this Federal Register notice (Ministerial Error Memorandum).

In accordance with section 751(h) of the Act and 19 CFR 351.224(e), we are amending the Final Results of this administrative review of pipes and tubes from Turkey. As a result of correcting the ministerial error, we determined that the dumping margin calculated for Borusan and the non-selected companies ⁷ in these amended final results is as follows:

⁷ Consistent with the Final Results, Commerce assigns to the companies not individually examined (i.e., Kale Baglanti Teknolojileri San. ve Tic.; Noksel Selik Boru Sanayi A.S.; and Cinar Boru Profil San. ve Tic. As) the weighted average dumping margin calculated for Borusan in these amended final results, because it is the only calculated weighted-average dumping margin that is not zero, de minimis, or determined entirely on the basis of facts available.

Exporter or producer | Weighted-average dumping margin (percent)
Borusan Mannesmann Boru Sanayi ve Ticaret A.S | 8.48
Kale Baglanti Teknolojileri San. ve Tic | 8.48
Noksel Selik Boru Sanayi A.S | 8.48
Cinar Boru Profil San. ve Tic. As | 8.48

Disclosure

Commerce intends to disclose the calculations performed for these amended final results of review within five days of the date of publication of this notice in the Federal Register, in accordance with 19 CFR 351.224(b).

Assessment Rates

Commerce shall determine, and U.S. Customs and Border Protection (CBP) shall assess, antidumping duties on all appropriate entries. The ministerial error corrections resulted in an 8.48 percent margin for the companies not individually examined: Kale Baglanti Teknolojileri San. ve Tic., Noksel Selik Boru Sanayi A.S., and Cinar Boru Profil San. ve Tic. As. Accordingly, we will instruct CBP to liquidate the appropriate entries at the non-individually examined rate, i.e., 8.48 percent.

In accordance with Commerce's “automatic assessment” practice, for entries of subject merchandise during the POR produced by each respondent for which it did not know that its merchandise was destined for the United States, we will instruct CBP to liquidate unreviewed entries at the all-others rate, i.e., 14.74 percent, from the less-than-fair-value (LTFV) investigation as modified by the section 129 determination,⁸ if there is no rate for the intermediate company(ies) involved in the transaction.⁹

⁸ See Implementation of the Findings of the WTO Panel in US—Zeroing (EC): Notice of Determinations Under Section 129 of the Uruguay Round Agreements Act and Revocations and Partial Revocations of Certain Antidumping Duty Orders, 72 FR 25261 (May 4, 2007).

⁹ See Antidumping and Countervailing Duty Proceedings: Assessment of Antidumping Duties, 68 FR 23954 (May 6, 2003).

On January 23, 2020, the CIT issued a preliminary injunction prohibiting the assessment of duties on entries of subject merchandise produced and/or exported by Borusan starting January 23, 2020. Accordingly, Commerce will not order CBP to assess antidumping duties on entries of that merchandise while the preliminary injunction is in place.

Cash Deposit Requirements

The following cash deposit requirements will be effective retroactively for all shipments of subject merchandise entered, or withdrawn from warehouse, for consumption on or after the January 22, 2020, the date of publication of the Final Results of this administrative review, as provided for by section 751(a)(2)(C) of the Act: (1) The cash deposit rate for the company under review will be equal to the weighted-average dumping margin established in the amended final results of this review; (2) for merchandise exported by producers or exporters not covered in this administrative review but covered in a prior completed segment of the proceeding, the cash deposit rate will continue to be the company-specific rate published for the most recently completed segment of this proceeding; (3) if the exporter is not a firm covered in this review or another completed segment of this proceeding, but the manufacturer is, then the cash deposit rate will be the rate established for the most recently completed segment of this proceeding for the manufacturer of the merchandise; and (4) if neither the exporter nor the manufacturer is a firm covered in this or any previously completed segment of this proceeding, then the cash deposit rate will be the all-others rate of 14.74 percent established in the LTFV investigation.¹⁰

¹⁰ See Antidumping Duty Order; Welded Carbon Steel Standard Pipe and Tube Products from Turkey, 51 FR 17784 (May 15, 1986).

These cash deposit requirements, when imposed, shall remain in effect until further notice.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification Regarding Administrative Protective Order (APO)

This notice also serves as the only reminder to parties subject to APO of their responsibility concerning the disposition of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

Notification to Interested Parties

These amended final results and notice are issued and published in accordance with sections 751(h) and 777(i) of the Act, and 19 CFR 351.224(e).

Dated: February 28, 2020.
Jeffrey I. Kessler,
Assistant Secretary for Enforcement and Compliance.

[FR Doc. 2020-04512 Filed 3-4-20; 8:45 am]

BILLING CODE 3510-DS-P